DEPARTMENT OF THE INTERIOR

[234D0102DM/DS62400000/DLSN00000/000000/DX62401]

FY 2020 Service Contract Inventory

AGENCY: Office of Acquisition and Property Management, Interior.

ACTION: Notice of public availability.

SUMMARY: The Department of the Interior is publishing this notice to advise the public of the availability of the Fiscal Year (FY) 2020 Service Contract Inventory, in accordance with section 743 of Division C of the Consolidated Appropriations Act of 2010.

ADDRESSES: Obtaining Documents: The Office of Federal Procurement Policy (OFPP) guidance is available online.

The Department of the Interior has posted its FY 2020 Service Contract Inventory on the Office of Acquisition and Property Management portion of the Department of the Interior website.

FOR FURTHER INFORMATION CONTACT: Valerie Green, Acquisition Analyst, Policy Branch, Office of Acquisition and Property Management (PAM), Department of the Interior. Phone number: 202-513-0797, Email: Valerie_green@ios.doi.gov.

SUPPLEMENTARY INFORMATION:

Introduction

Section 743 of Division C of the Consolidated Appropriations Act of 2010 (Pub. L. 111-117) requires civilian agencies to prepare an annual inventory of their service contracts. The analyses help inform agency managers whether contractors are being used appropriately or if rebalancing the workforce may be required.

In addition to the agency analyses, the process includes extracting contract data from the Federal Procurement Data System (FPDS) and the System for Award Management (SAM) and the consolidated output file is posted for public use.

The Inventory provides information on service contract actions over $25,000 that the Department made in FY 2020. The information is organized by function to show how contracted resources are distributed throughout the Department. The Department's analysis of its Service Contract Inventory is summarized in the FY 2020 Service Contract Inventory Report. The 2020 Report was developed in accordance with guidance issued on December 19, 2011, and November 5, 2010, by the Office of Management and Budget's Office of Federal Procurement Policy.

Authority

The authority for this action is the Consolidated Appropriations Act of 2010 (Pub. L. 111-117).

Megan Olsen,
Director, Office of Acquisition and Property Management.

[FR Doc. 2023-00787 Filed 1-17-23; 8:45 am]

BILLING CODE 4334-63-P